DEPARTMENT OF ENERGY

Federal Energy Regulatory Commission

[Project No. 1889-085; Project No. 2485-071]

FirstLight MA Hydro LLC; Northfield Mountain LLC; Notice of Intent To Prepare an Environmental Impact Statement

On April 29, 2016, and materially amended on December 4, 2020, FirstLight MA Hydro LLC and Northfield Mountain LLC, respectively, filed applications for new major licenses to operate the 62.0-megawatt (MW) Turners Falls Hydroelectric Project (Turners Falls Project; FERC No. 1889) and 1,166.8-MW Northfield Mountain Pumped Storage Project (Northfield Mountain Project; FERC No. 2485) (collectively, projects). The projects are located on the Connecticut River in Windham County, Vermont; Cheshire County, New Hampshire; and Franklin County, Massachusetts. The Turners Falls Project boundary includes the approximately 20-acre Silvio Conte Anadromous Fish Laboratory, which is administered by the U.S. Geological Survey.

During the application pre-filing process, on December 21, 2012, Commission staff issued Scoping Document 1, initiating the scoping process for the projects in accordance with the National Environmental Policy Act (NEPA) and Commission regulations. On April 15, 2013, Commission staff issued a revised scoping document (Scoping Document 2). In accordance with the Commission's regulations, on February 22, 2024, Commission staff issued notices that the projects were ready for environmental analysis (REA Notice). Based on the information in the record, including comments filed during scoping and in response to the REA Notices, staff has determined that relicensing the project may constitute a major Federal action significantly affecting the quality of the human environment. Therefore, staff intends to prepare an Environmental Impact Statement (EIS) for the above-captioned projects.

A draft EIS will be issued and circulated for review by all interested parties. All comments filed in response to the REA notices, and on the draft EIS will be analyzed by staff in a final EIS. Staff's conclusions and recommendations will be available for the Commission's consideration in reaching its final licensing decision.

The application will be processed according to the following schedule. Revisions to the schedule may be made as appropriate.

Milestone | Target date
Issue draft EIS | December 2024.
Draft EIS Public Meeting | January 2025.
Comments on draft EIS due | February 2025.
Commission issues final EIS | August 2025.¹

Any questions regarding this notice may be directed to Steve Kartalia at (202) 502-6131 or stephen.kartalia@ferc.gov.

¹ The Council on Environmental Quality's (CEQ) regulations under 40 CFR 1501.10(b)(2) (2023) require that EISs be completed within 2 years of the Federal action agency's decision to prepare an EIS. See also National Environmental Policy Act, 42 U.S.C. 4321 et seq., amended by section 107(g)(1)(A)(iii) of the Fiscal Responsibility Act of 2023, Public Law 118-5, sec. 4336a, 137 Stat. 42.

Dated: June 5, 2024.
Debbie-Anne A. Reese,
Acting Secretary.

[FR Doc. 2024-12756 Filed 6-10-24; 8:45 am]

BILLING CODE 6717-01-P